NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time: July 19, 2019; 8:30 a.m.-5 p.m.

Place: National Aeronautical and Space Administration, 300 E Street SW, Washington, DC 20546.

Type of Meeting: Part-Open.

Contact Person: Anyone planning to attend this meeting must provide their names to Keaven Stevenson, Directorate Administrative Coordinator, Room C 11044, National Science Foundation, 2415 Eisenhower Avenue, Alexandria, VA 22314 by 12 noon on Monday, July 15, 2019. Contact Information: 703-292-8663/kstevens@nsf.gov.

Purpose of Meeting: To share and collect information in support of members' role in advising the Committee on Science, Technology, Engineering, and Mathematics Education (CoSTEM).

Agenda: STEM Education Advisory Panel agenda attached. Please check the website for any additional updates prior to the meeting at https://nsf.gov/ehr/STEMEdAdvisory.jsp.

Reason for Closing: The panel will review and discuss a draft government report during closed portions of the meeting. This discussion must be kept confidential. These matters are exempt under 5 U.S.C. 552b(c), (9)(B) of the Government in the Sunshine Act.

Dated: June 18, 2019.
Crystal Robinson,
Committee Management Officer.

STEM Education Advisory Panel

Committee Meeting Agenda

Friday, July 19, 2019

Location: National Aeronautical and Space Administration, 300 E Street SW, Washington, DC 20546

8:30 a.m.-9 a.m. Introductions

9 a.m.-10:15 a.m. Discussion of Internal Government Draft Report (CLOSED)

10:15 a.m.-10:30 a.m. Break

10:30 a.m.-11:30 a.m. FC-STEM IWG Presentations

11:30 a.m.-12:30 p.m. Working Lunch

12:30 p.m.-12:45 p.m. Prepare for CoSTEM Members

12:45 p.m.-1 p.m. Welcome from OSTP Director

1 p.m.-2:15 p.m. Remarks from and Q and A with CoSTEM Leadership and Members

2:15 p.m.-2:30 p.m. Break

2:30 p.m.-4:15 p.m. Subcommittee Meetings (CLOSED)

4:15 p.m.-4:45 p.m. Report back to Panel

4:45 p.m.-5 p.m. Closing Remarks

Current as of: June 18, 2019.

[FR Doc. 2019-13174 Filed 6-20-19; 8:45 am]

BILLING CODE 7555-01-P